DEPARTMENT OF HEALTH AND HUMAN SERVICES

Substance Abuse and Mental Health Services Administration

Center for Mental Health Services; Notice of Meeting

Pursuant to Pub. L. 92-463, notice is hereby given of the meeting of the Center for Mental Health Services (CMHS) National Advisory Council in June 2003.

A portion of the meeting will be open and will include a roll call, general announcements, a budget update, and discussions about the President's New Freedom Commission on Mental Health, the Substance Abuse and Mental Health Services Administration's (SAMHSA) activities in translating science to services, SAMHSA/CMHS’ Report to Congress on Co-occurring Disorder, and consumer/survivor issues. In addition, the meeting will include an orientation session for new council members.

Public comments are welcome. Please communicate with the individual listed as contact below for guidance. If anyone needs special accommodations for persons with disabilities please notify the contact listed below.

The meeting will also include the review, discussion, and evaluation of grant applications. Therefore, a portion of the meeting will be closed to the public as determined by the SAMHSA Administrator, in accordance with Title 5 U.S.C. 552b(c)(6) and 5 U.S.C. App. 2. & 10(d).

A summary of the meeting and a roster of Council members may be obtained from Ms. Tracey Cooper, Committee Management Coordinator, CMHS, Room 17-99, Parklawn Building, Rockville, Maryland 20857, telephone (301) 443-1158.

Substantive program information may be obtained from the contact person listed below.

Committee Name: CMHS National Advisory Council.

Meeting Date: June 25-26, 2003.

Place: The Melrose Hotel, 2430 Pennsylvania Ave., NW, Washington, DC 20037. 202-955-6400.

Type:

Closed: June 25, 2003-8:30 a.m.-10:30 a.m.

Open: June 25, 2003-11 a.m.-5 p.m.

Open: June 26, 2003-8:30 a.m.-11:30 a.m.

For Further Information Contact: Dale Kaufman, MPH, MA, Executive Secretary, 5600 Fishers Lane, Parklawn Building, Room 17-99, Rockville, Maryland 20857, Telephone: (301) 443-2660 and FAX (301) 443-1563.

Dated: June 11, 2003.
Toian Vaughn,
Committee Management Officer, Substance Abuse and Mental Health Services Administration.

[FR Doc. 03-15340 Filed 6-17-03; 8:45 am]

BILLING CODE 4162-20-P